DEPARTMENT OF ENERGY

Federal Energy Regulatory Commission

Combined Notice of Filings #1

Take notice that the Commission received the following Complaints and Compliance filings in EL Dockets:

Docket Numbers: EL24-127-000.

Applicants: Great Basin Transmission, LLC.

Description: Great Basin Transmission, LLC submits supplemental information filing re the Petition for Declaratory Order Approving Incentive Rate Treatment.

Filed Date: 10/7/24.

Accession Number: 20241007-5184.

Comment Date: 5 p.m. ET 11/13/24.

Take notice that the Commission received the following electric rate filings:

Docket Numbers: ER24-1274-001.

Applicants: Oleander Power Project, Limited Partnership.

Description: Tariff Amendment: Response to Deficiency Letter & Amendments to PPA (ER24-1274-) to be effective 1/1/2025.

Filed Date: 10/30/24.

Accession Number: 20241030-5144.

Comment Date: 5 p.m. ET 11/20/24.

Docket Numbers: ER24-3043-001.

Applicants: Otter Tail Power Company.

Description: Tariff Amendment: Amendment to CapX Brookings Certificates of Concurrence—OMA and TCEA to be effective 5/10/2013.

Filed Date: 10/30/24.

Accession Number: 20241030-5137.

Comment Date: 5 p.m. ET 11/20/24.

Docket Numbers: ER24-3044-001.

Applicants: Otter Tail Power Company.

Description: Tariff Amendment: Amendment to Certificates of Concurrence—Amended and Restated OMA and TCEA to be effective 4/16/2016.

Filed Date: 10/30/24.

Accession Number: 20241030-5156.

Comment Date: 5 p.m. ET 11/20/24.

Docket Numbers: ER25-265-000.

Applicants: Wolverine Power Supply Cooperative, Inc.

Description: § 205(d) Rate Filing: Wholesale Power Contract with Thumb Electric Cooperative to be effective 1/1/2025.

Filed Date: 10/30/24.

Accession Number: 20241030-5000.

Comment Date: 5 p.m. ET 11/20/24.

Docket Numbers: ER25-266-000.

Applicants: New York Independent System Operator, Inc.

Description: § 205(d) Rate Filing: NYISO 205: Revisions to Table 1A of Attachment L of the OATT to be effective 12/30/2024.

Filed Date: 10/30/24.

Accession Number: 20241030-5016.

Comment Date: 5 p.m. ET 11/20/24.

Docket Numbers: ER25-267-000.

Applicants: Southern California Edison Company.

Description: § 205(d) Rate Filing: SCE 2025 TRBAA Update to be effective 1/1/2025.

Filed Date: 10/30/24.

Accession Number: 20241030-5068.

Comment Date: 5 p.m. ET 11/20/24.

Docket Numbers: ER25-268-000.

Applicants: Tri-State Generation and Transmission Association, Inc.

Description: Tariff Amendment: Notice of Cancellation of Rate Schedule FERC Nos. 182 through 198 to be effective 9/30/2024.

Filed Date: 10/30/24.

Accession Number: 20241030-5070.

Comment Date: 5 p.m. ET 11/20/24.

Docket Numbers: ER25-269-000.

Applicants: Tri-State Generation and Transmission Association, Inc.

Description: Tariff Amendment: Notice of Cancellation of Rate Schedule FERC No. 170 to be effective 9/30/2024.

Filed Date: 10/30/24.

Accession Number: 20241030-5096.

Comment Date: 5 p.m. ET 11/20/24.

Docket Numbers: ER25-270-000.

Applicants: San Diego Gas & Electric.

Description: § 205(d) Rate Filing: TO6 Formula Tariff Filing to be effective 1/1/2025.

Filed Date: 10/30/24.

Accession Number: 20241030-5108.

Comment Date: 5 p.m. ET 11/20/24.

Docket Numbers: ER25-271-000.

Applicants: PJM Interconnection, L.L.C.

Description: § 205(d) Rate Filing: Original NSA, Service Agreement No. 7393; AE2-323 to be effective 12/30/2024.

Filed Date: 10/30/24.

Accession Number: 20241030-5113.

Comment Date: 5 p.m. ET 11/20/24.

Docket Numbers: ER25-272-000.

Applicants: ITC Midwest LLC.

Description: § 205(d) Rate Filing: First Amended and Restated Communications Pathway Sharing Agmt (RS No. 230) to be effective 12/30/2024.

Filed Date: 10/30/24.

Accession Number: 20241030-5122.

Comment Date: 5 p.m. ET 11/20/24.

Docket Numbers: ER25-273-000.

Applicants: Tri-State Generation and Transmission Association, Inc.

Description: Tariff Amendment: Notice of Cancellation of Service Agreement FERC No. 803 to be effective 9/30/2024.

Filed Date: 10/30/24.

Accession Number: 20241030-5126.

Comment Date: 5 p.m. ET 11/20/24.

Docket Numbers: ER25-274-000.

Applicants: Tucson Electric Power Company.

Description: § 205(d) Rate Filing: Rate Schedule No. 124 to be effective 10/31/2024.

Filed Date: 10/30/24.

Accession Number: 20241030-5138.

Comment Date: 5 p.m. ET 11/20/24.

Docket Numbers: ER25-275-000.

Applicants: PJM Interconnection, L.L.C.

Description: § 205(d) Rate Filing: Amendment to ISA SA No. 5604 & ICSA SA No. 5614, AC1-164 to be effective 12/30/2024.

Filed Date: 10/30/24.

Accession Number: 20241030-5142.

Comment Date: 5 p.m. ET 11/20/24.

Docket Numbers: ER25-276-000.

Applicants: Wheelabrator Millbury Inc.

Description: Compliance filing: Request for Category 1 Status in NE Region and Revised Market-Based Rate Tariffs to be effective 10/31/2024.

Filed Date: 10/30/24.

Accession Number: 20241030-5160.

Comment Date: 5 p.m. ET 11/20/24.

Docket Numbers: ER25-277-000.

Applicants: NorthWestern Corporation.

Description: § 205(d) Rate Filing: RS190 Cert of Concurrence—Colstrip Transmission Agreement to be effective 10/5/2024.

Filed Date: 10/30/24.

Accession Number: 20241030-5168.

Comment Date: 5 p.m. ET 11/20/24.

Docket Numbers: ER25-278-000.

Applicants: Otter Tail Power Company.

Description: § 205(d) Rate Filing: Alexandria-Big Oaks Transmission Project Certificate of Concurrence—NSP JDA to be effective 9/3/2024.

Filed Date: 10/30/24.

Accession Number: 20241030-5173.

Comment Date: 5 p.m. ET 11/20/24.

Docket Numbers: ER25-279-000.

Applicants: Hunlock Creek Generating LLC.

Description: Compliance filing: Notice of Succession, New eTariff Baseline Submissions, and Request for Waiver to be effective 10/1/2024.

Filed Date: 10/30/24.

Accession Number: 20241030-5175.

Comment Date: 5 p.m. ET 11/20/24.

Docket Numbers: ER25-280-000.

Applicants: Wheelabrator North Andover Inc.

Description: Compliance filing: Request for Category 1 Status in NE Region and Revised Market-Based Rate Tariffs to be effective 10/31/2024.

Filed Date: 10/30/24.

Accession Number: 20241030-5192.

Comment Date: 5 p.m. ET 11/20/24.

Docket Numbers: ER25-281-000.

Applicants: Wheelabrator Baltimore, L.P.

Description: Compliance filing: Request for Category 1 Status in NE Region and Revised Market-Based Rate Tariffs to be effective 10/31/2024.

Filed Date: 10/30/24.

Accession Number: 20241030-5197.

Comment Date: 5 p.m. ET 11/20/24.

Docket Numbers: ER25-282-000.

Applicants: Wheelabrator Bridgeport, L.P.

Description: Compliance filing: Request for Category 1 Status in NE Region and Revised Market-Based Rate Tariffs to be effective 10/31/2024.

Filed Date: 10/30/24.

Accession Number: 20241030-5202.

Comment Date: 5 p.m. ET 11/20/24.

Docket Numbers: ER25-283-000.

Applicants: Wheelabrator Portsmouth Inc.

Description: Compliance filing: Request for Category 1 Status in NE Region and Revised Market-Based Rate Tariffs to be effective 10/31/2024.

Filed Date: 10/30/24.

Accession Number: 20241030-5204.

Comment Date: 5 p.m. ET 11/20/24.

Docket Numbers: ER25-284-000.

Applicants: Wheelabrator Concord Company, L.P.

Description: Compliance filing: Request for Category 1 Status in NE Region and Revised Market-Based Rate Tariffs to be effective 10/31/2024.

Filed Date: 10/30/24.

Accession Number: 20241030-5206.

Comment Date: 5 p.m. ET 11/20/24.

Docket Numbers: ER25-285-000.

Applicants: Wheelabrator Falls Inc.

Description: Compliance filing: Request for Category 1 Status in NE Region and Revised Market-Based Rate Tariffs to be effective 10/31/2024.

Filed Date: 10/30/24.

Accession Number: 20241030-5209.

Comment Date: 5 p.m. ET 11/20/24.

Docket Numbers: ER25-286-000.

Applicants: Wheelabrator Saugus Inc.

Description: Compliance filing: Request for Category 1 Status in NE Region and Revised Market-Based Rate Tariffs to be effective 10/31/2024.

Filed Date: 10/30/24.

Accession Number: 20241030-5211.

Comment Date: 5 p.m. ET 11/20/24.

Docket Numbers: ER25-287-000.

Applicants: Southwestern Public Service Company.

Description: § 205(d) Rate Filing: 2024-10-30 DSEC—Construction & Ownership Agrmnt—#4 Sub—758SPS—0.0.0 to be effective 10/31/2024.

Filed Date: 10/30/24.

Accession Number: 20241030-5213.

Comment Date: 5 p.m. ET 11/20/24.

Docket Numbers: ER25-288-000.

Applicants: Wheelabrator Westchester, L.P.

Description: Compliance filing: Request for Category 1 Status in NE Region and Revised Market-Based Rate Tariffs to be effective 10/31/2024.

Filed Date: 10/30/24.

Accession Number: 20241030-5215.

Comment Date: 5 p.m. ET 11/20/24.

Take notice that the Commission received the following qualifying facility filings:

Docket Numbers: QF25-83-000.

Applicants: CHP F&M, LLC.

Description: Form 556 of CHP F&M, LLC.

Filed Date: 10/30/24.

Accession Number: 20241030-5059.

Comment Date: 5 p.m. ET 11/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 30, 2024.
Debbie-Anne A. Reese,
Secretary.

[FR Doc. 2024-26042 Filed 11-7-24; 8:45 am]

BILLING CODE 6717-01-P